DEPARTMENT OF TRANSPORTATION

Federal Highway Administration

[Docket No. FHWA-2010-0059]

Temporary Closure of I-70 (I-70/I-465 West Leg Interchange to the I-70/I-65 South Split Interchange) on October 7, 2010, in Indianapolis, IN

AGENCIES: Federal Highway Administration (FHWA), DOT.

ACTION: Final Notice.

SUMMARY: The FHWA has approved the request from the Indiana Department of Transportation (INDOT) to temporarily close a segment of I-70 (from the I-70/I-465 west leg interchange to the I-70/I-65 south split interchange) on October 7, 2010, for a 12-hour period from 6 a.m. to 6 p.m. The closure will accommodate a concentrated I-70 beautification project sponsored by INDOT. The approval is granted in accordance with the provisions of 23 CFR 658.11 which authorizes the deletion of segments of the federally designated routes that make up the National Network designated in Appendix A of 23 CFR Part 658. The FHWA published a Notice and Request for Comment on July 2, 2010, seeking comments from the general public on this request submitted by INDOT for a deletion in accordance with section 658.11(d). No public comments were received.

DATES: Effective Date: This Notice is effective immediately.

FOR FURTHER INFORMATION CONTACT: Mr. Michael P. Onder, Team Leader Truck Size and Weight and Freight Operations and Technology Team, (202) 366-2639, Raymond W. Cuprill, Office of the Chief Counsel, (202) 366-0791, Federal Highway Administration; 1200 New Jersey Avenue, SE., Washington, DC 20590, and Mr. Robert Tally, FHWA Division Administrator-Indiana, (317) 226-7476. Office hours for FHWA are from 7:45 a.m. to 4:15 p.m., e.t., Monday through Friday, except Federal holidays.

SUPPLEMENTARY INFORMATION:

Electronic Access and Filing

You may retrieve a copy of the Notice and Request for Comment, comments submitted to the docket, and a copy of this Final Notice through the Federal eRulemaking portal at: http://www.regulations.gov. The Web site is available 24 hours each day, 365 days each year. Electronic submission and retrieval help and guidelines are available under the help section of the Web site.

An electronic copy of this document may also be downloaded from Office of the Federal Register's home page at: http://www.archives.gov/federal_register and the Government Printing Office's Web page at: http://www.gpoaccess.gov.

Background

The INDOT submitted a request to FHWA for approval of the temporary closure of a segment of I-70 in Indiana (from the I-70/I-465 west leg interchange to the I-70/I-65 south split interchange) on October 7, 2010, for a 12-hour period from 6 a.m. to 6 p.m. (The incoming request and supporting documents can be viewed electronically at the docket established for this notice at http://www.regulations.gov). This closure will be undertaken in support of the I-70 beautification project that will take place with the participation of approximately 9,100 Lilly “Day of Service” volunteers. These volunteers will be working within five different I-70 interchanges along both sides of I-70. Approximately 5,600 volunteers will be assigned to work on the north side of I-70 and approximately 3,500 workers will be assigned to the south side. Both groups have 1 hour appropriated for arrival and parking as well as 1 hour for departure from the construction corridor. A comprehensive plan for the arrival and departure times, parking, and emergency evacuation (should it be necessary) has been developed. The INDOT has indicated that by closing the Interstate through the work zone, lengthy delays caused by the restriction of lanes will be eliminated as well as distractions to the motoring public caused by the 9,100 workers and associated activities. In addition, the temporary closure would eliminate the risk of work zone accidents in the area of these work zones. The INDOT believes that the best way to ensure the safety of the workers will be to eliminate vehicular travel through the corridor while the work in the interchange areas is being conducted. The closure also provides additional safety to the motorists by eliminating the distraction that could be caused by the significant amount of workers within the interchanges and by eliminating the need for traffic restrictions in the actual work zone. A 12-hour condensed closure provides a safer condition for workers and provides better conditions than a long-term construction work zone with the associated work zone set ups and restrictions that would otherwise take place over many days.

The FHWA is responsible for enforcing the Federal regulations applicable to the National Network of highways that can safely and efficiently accommodate the large vehicles authorized by provisions of the Surface Transportation Assistance Act of 1982 (STAA), as amended, designated in accordance with 23 CFR part 658 and listed in Appendix A. In accordance with sec. 658.11, the FHWA may approve deletions or restrictions of the Interstate system or other National Network route based upon specified justification criteria in sec. 658.11(d)(2). Requests for deletions are published in the Federal Register for notice and comment.

Notice and Request for Comment

The FHWA published a Notice and Request for Comment on July 2, 2010, seeking comments from the general public on this request submitted by INDOT for a deletion in accordance with section 658.11(d). The comment period closed on August 2, 2010. No public comments were received.

The FHWA sought comments on this request for temporary deletion from the National Network in accordance with 23 CFR 658.11(d). Specifically, the request is for deletion of I-70 (from the I-70/I-465 west leg interchange to the I-70/I-65 south split interchange) from the National Network on October 7, beginning at 6:00 a.m., for one consecutive 12-hour period. The temporary closure of I-70 to general traffic should have a negligible impact to interstate commerce. Using a comparison of lane mile computations, traffic will be detoured to I-465 around the south side of Indianapolis adding only 2 to 3 minutes additional time to Interstate travel. Re-routed I-70 through traffic via I-465 is approximately 18 miles around the south side of I-465 (to get to the interchange of I-70 and I-465 on the east side). If I-70 were to remain open with restrictions, the mileage to I-70 and I-465 on the east side would be approximately 16 miles. However, vehicles would be traveling at a reduced speed limit, resulting in large queue lengths creating back-ups which would add significant time to their commute. The detour will have a negligible impact on interstate commerce as the I-465 diversion route would add little distance or time to an interstate or long distance trip. Businesses requiring deliveries adjacent to the closed area will be encouraged to receive deliveries before or after the October 7 closure times in order to minimize these local impacts.

Commercial motor vehicles will use I-465 around the south side of Indianapolis. During the time of closure there will be some INDOT construction along the detour route and along Interstate I-465 on the west side of Indianapolis. The detour route will have no lane restrictions for motorists during this time and INDOT will not plan for any lane closures in other nearby construction zones. The INDOT will increase the Hoosier Helper workforce (freeway service patrols) along I-465 to address incident response and minimize any incident impacts. The INDOT will issue a press release to inform the community of the closure and will post the closure in Road Restriction System (RRS) and INDOT's traveler information Web site Traffic Wise (http://www.trafficwise.in.gov) to help with notification to the motorists.

The temporary closure plan has been prepared in accordance with INDOT's transportation plan and has been reviewed and approved by the city of Indianapolis and the Indianapolis Metropolitan Police Department. The INDOT has reached out to Federal, State, and local agencies to ensure a collaborative and coordinated effort to address the logistical challenges of the I-70 beautification project. The Illinois Department of Transportation and the Ohio Department of Transportation have been informed of this proposal. Additionally, efforts have been made to work with the various transit systems as well as the American Trucking Association. The INDOT has met with, and gained support from the Indiana Motor Trucking Association, and has the endorsement of the city of Indianapolis, specifically The Greater Indianapolis Chamber of Commerce and the local business districts adjacent to the closure. (Full list of endorsements can be viewed electronically at the docket established for this notice at http://www.regulations.gov).

The INDOT has carefully evaluated all possible alternatives and after doing so believes the temporary closure of I-70 is the best way to ensure the safety not only to the volunteer workers, but also to the motorists. The INDOT is actively working with KIB and Lilly to develop an aggressive communications plan utilizing local business associations along the I-70 corridor, Indianapolis Downtown, Inc., and media outlets. Special consideration will be given to local and national trucking publications. Event day media staging areas and command posts are also included in the plan.

The FHWA did not receive any comments in response to the Notice and Request for Comment. After full consideration of the INDOT request discussed in this Final Notice and determining that the request meets the requirements of 23 CFR 658.11(d), the FHWA approves the deletion as proposed.

Authority: 23 U.S.C. 127, 315 and 49 U.S.C. 31111, 31112, and 31114; 23 CFR part 658.

Issued on: August 9, 2010.
Victor M. Mendez,
Administrator.

[FR Doc. 2010-20092 Filed 8-13-10; 8:45 am]

BILLING CODE 4910-22-P